DEPARTMENT OF HEALTH AND HUMAN SERVICES

National Institutes of Health

National Institute of Dental & Craniofacial Research; Notice of Closed Meetings

Pursuant to section 1009 of the Federal Advisory Committee Act, as amended, notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Institute of Dental and Craniofacial Research Special Emphasis Panel; Small Research Grants (R03) for New Investigators and Secondary Data Analysis PARs Review.

Date: November 6-7, 2024.

Time: 9:00 a.m. to 12:00 p.m.

Agenda: To review and evaluate grant applications.

Place: National Institute of Dental & Craniofacial Research, 31 Center Drive, Bethesda, MD 20892 (Virtual Meeting).

Contact Person: Thomas John O'Farrell, Ph.D., Scientific Review Officer, Scientific Review Branch, Division of Extramural Activities, National Institute of Dental and Craniofacial Research, 31 Center Drive, Bethesda, M.D. 20892, (301) 584-4859, email: tom.ofarrell@nih.gov.

Name of Committee: National Institute of Dental and Craniofacial Research Special Emphasis Panel; Assessment of Climate at Institutions (ACt) Award (RC2—Clinical Trial Not Allowed).

Date: November 8, 2024.

Time: 10:00 a.m. to 5:00 p.m.

Agenda: To review and evaluate grant applications.

Place: National Institute of Dental & Craniofacial Research, 31 Center Drive, Bethesda, MD 20892 (Virtual Meeting).

Contact Person: Christopher Campbell, Ph.D., M.D., Scientific Review Officer, Scientific Review Branch, Division of Extramural Activities, National Institute of Dental and Craniofacial Research, 31 Center Drive, Bethesda, M.D. 20892, (301) 827-4603, email: christopher.campbell@nih.gov.

Name of Committee: National Institute of Dental and Craniofacial Research Special Emphasis Panel; Prospective Observational or Biomarker Validation Study Cooperative Agreement.

Date: November 12, 2024.

Time: 3:00 p.m. to 4:30 p.m.

Agenda: To review and evaluate grant applications.

Place: National Institute of Dental & Craniofacial Research, 31 Center Drive, Bethesda, MD 20892 (Virtual Meeting).

Contact Person: Christopher Campbell, Ph.D., M.D., Scientific Review Officer, Scientific Review Branch, Division of Extramural Activities, National Institute of Dental and Craniofacial Research, 31 Center Drive, Bethesda, MD 20892, (301) 827-4603, email: christopher.campbell@nih.gov.

(Catalogue of Federal Domestic Assistance Program No. 93.121, Oral Diseases and Disorders Research, National Institutes of Health, HHS)

Dated: September 26, 2024.
Bruce A. George,
Program Analyst, Office of Federal Advisory Committee Policy.

[FR Doc. 2024-22529 Filed 9-30-24; 8:45 am]

BILLING CODE 4140-01-P